DEPARTMENT OF AGRICULTURE

Grain Inspection, Packers and Stockyards Administration

United States Standards for Lentils

AGENCY: Grain Inspection, Packers and Stockyards Administration, USDA.

ACTION: Final Notice.

SUMMARY: This action is being taken under the authority of the Agricultural Marketing Act of 1946, as amended, (AMA). The Department of Agriculture's (USDA) Grain Inspection, Packers and Stockyards Administration (GIPSA) is revising the United States Standards for Lentils to establish an additional grading factor, definition, grade requirements, and visual reference images for “wrinkled lentils,” and establish a special grade, definition, special grade requirements, designation, and visual reference images for “green lentils.” GIPSA believes these revisions will improve the application of standards and facilitate the marketing of lentils.

DATES: Effective Date: August 1, 2017.

FOR FURTHER INFORMATION CONTACT: Beverly A. Whalen at USDA, GIPSA, FGIS, 10383 N. Ambassador Drive, Kansas City, Missouri 64153; Telephone (816) 659-8410; Fax Number (816) 872-1258; email Beverly.A.Whalen@usda.gov.

SUPPLEMENTARY INFORMATION: Section 203(c) of the AMA (7 U.S.C. § 1622(c)), directs and authorizes the Secretary of Agriculture “To develop and improve standards of quality, condition, quantity, grade, and packaging and recommend and demonstrate such standards in order to encourage uniformity and consistency in commercial practices.” GIPSA is committed to carrying out this authority in a manner that facilitates the marketing of agricultural commodities.

Under the AMA, GIPSA establishes and maintains standards for graded commodities including rice, whole dry peas, split peas, feed peas, lentils, and beans. The AMA standards are voluntary and widely used in private contracts, government procurement, marketing communication, and/or consumer information. The standards serve as a common trading language to define commodity quality in the domestic and global marketplace.

Background

GIPSA engages in regular outreach with stakeholders to ensure commodity standards maintain relevance with the modern market. Lentil industry stakeholders include the USA Dry Pea and Lentil Council (USADPLC), a national organization of producers, processors, and exporters of U.S. dry peas, lentils, and chickpeas; the U.S. Dry Pea and Lentil Trade Association (USPLTA), a national association representing processors, traders, handlers and merchandisers, and transporters in the pea, lentil and chickpea industry; and, other handlers and merchandisers.

The United States Standards for Lentils are available on GIPSA's public Web site at: https://www.gipsa.usda.gov/fgis/standards/lentils.pdf. USADPLC and USPLTA reviewed the United States Standards for Lentils, which were last revised in 2008. The review resulted in those stakeholders jointly recommending that GIPSA revise the standards based on changing market trends. Specifically, these groups asked GIPSA to (1) establish a new grading factor of “wrinkled lentils,” and (2) establish a new special grade of “green lentils.”

GIPSA provides official inspection procedures for lentils in the Pea and Lentil Handbook, which is available on GIPSA's public Web site at: http://www.gipsa.usda.gov/Publications/fgis/handbooks/pealentil_insphb.html.

Establishment of Grading Factor “Wrinkled Lentils”

USADPLC and USPLTA reported on a trend of an increasing percentage of fully developed lentils that possess a wrinkled seed coat. These lentils do not meet the definition for immature lentils. Under the current United States Standards for Lentils, these lentils would grade U.S. #1; however, the wrinkled appearance is considered undesirable. The stakeholders jointly recommended that GIPSA establish a new grade determining factor “wrinkled lentil,” and also recommended factor limits for grades No's. 1, 2, and 3. GIPSA and the stakeholders worked collaboratively to develop a visual reference image that best reflects the “wrinkled lentil” condition. Additionally, stakeholders endorsed the following definition: Wrinkled lentils are sound lentils that are substantially wrinkled on at least 50 percent of one side.

Establishment of Special Grade “Green Lentils”

The USPLTA Grades Committee members recommended that GIPSA establish a special grade, “green lentils.” Lentil stakeholders concurred on the need for a special grade to distinguish a desirable aesthetic feature. GIPSA and the stakeholders worked collaboratively to develop a visual reference image that best reflects the “green lentils” condition. Additionally, stakeholders endorsed the following definition: Green lentils are clear seeded (non-mottled) and possess a natural, uniformly green color.

Comment Review

GIPSA published a Notice in the Federal Register on May 15, 2017 (82 FR 22305), inviting interested parties to comment on the proposed revisions to the United States Standards for Lentils. Two comments were received from industry associations, supporting the proposed revisions. No adverse comments were received. Accordingly, the lentil standards are being revised as proposed in the May 15, 2017, notice. GIPSA believes that these revisions will facilitate use of the standards and better reflect current marketing practices. The revisions to the standards become effective August 1, 2017, and the Pea and Lentil Handbook will be revised to incorporate the revisions to the standards.

Final Action

GIPSA is revising the lentil standards to (1) establish a new grading factor, definition, factor limits, and visual reference image for wrinkled lentils; and (2) establish a special grade, definition, designation, and visual reference image for green lentils. Accordingly, the following sections of the United States Standards for Lentils under the AMA are amended: Section 601, Definitions, is amended to include the following definition: Wrinkled lentils are sound lentils that are substantially wrinkled on at least 50% of one side. Section 607, Grades and grade requirements for dockage-free lentils, is amended as follows:

607 Grades and Grade Requirements for Dockage-Free Lentils
Grading factors | Grades U.S. Nos.: 1 | Grades U.S. Nos.: 2 | Grades U.S. Nos.: 3
Defective Lentils
Total ¹ | 2.0 | 3.5 | 5.0
Weevil-Damaged Lentils | 0.3 | 0.8 | 0.8
Heat-Damaged Lentils | 0.2 | 0.5 | 1.0
Foreign Material
Total ² | 0.2 | 0.5 | 0.5
Stones | 0.1 | 0.2 | 0.2
Skinned Lentils | 4.0 | 7.0 | 10.0
Wrinkled Lentils ³ | 5.0 | 10.0 | >10.0
Contrasting Lentils ⁴ | 2.0 | 4.0 | <4.0
Inconspicuous Admixture | 0.5 | 0.8 | 1.0
Minimum Requirements for Color | Good | Fair | Poor
U.S. Sample grade are lentils that:
(a) Do not meet the requirements for the grades U.S. Nos. 1, 2, or 3; or
(b) Contain more than 14.0 percent moisture, live weevils, or other live insects, metal fragments, broken glass, or a commercially objectionable odor; or
(c) Are materially weathered, heating, or distinctly low quality.
¹ Defective lentils total is weevil-damaged, heat-damaged, damaged, and split lentils combined.
² Foreign material total includes stones.
³ Lentils with more than 10.0 percent wrinkled lentils shall grade no higher than U.S. No. 3.
⁴ Lentils with more than 4.0 percent contrasting lentils shall grade no higher than U.S. No. 3.

Section 609, Special grades and requirements, is amended to include the following definition:

Green lentils are clear seeded (non-mottled) lentils possessing a natural, uniformly green color.

Authority: 7 U.S.C. 1621-1627.

Randall D. Jones,
Acting Administrator, Grain Inspection, Packers and Stockyards Administration.

[FR Doc. 2017-14308 Filed 7-6-17; 8:45 am]

BILLING CODE 3410-KD-P